ENVIRONMENTAL PROTECTION AGENCY

[FRL-7518-8]

Meetings of the Ozone Transport Commission and Mid-Atlantic/Northeast Visibility Union

AGENCY: Environmental Protection Agency.

ACTION: Notice of meeting.

SUMMARY: The United States Environmental Protection Agency is announcing the 2003 Annual Meetings of the Ozone Transport Commission (OTC), and the Mid/Atlantic/Northeast Visibility Union (MANE-VU). The OTC meeting is to deal with appropriate matters within the Ozone Transport Region in the Northeast and Mid-Atlantic States, as provided for under the Clean Air Act Amendments of 1990. The MANE-VU meeting is to discuss matters of Regional Haze planning and implementation. These meetings are not subject to the provisions of the Federal Advisory Committee Act, Pub. L. 92-463, as amended.

DATES: The meetings will be held on July 21, 2003, July 22, 2003 (OTC) and July 23, 2003 (MANE-VU) starting at 9 a.m. (EDT).

ADDRESSES: The Hilton Inn At Penn, 3600 Sansom Street, Philadelphia, Pennsylvania 19104; (215) 222-0200.

FOR FURTHER INFORMATION CONTACT: Judith M. Katz, U.S. Environmental Protection Agency, Region III, 1650 Arch Street, Philadelphia, PA 19103; (215) 814-2100.

For Documents and Press Inquiries Contact: Ozone Transport Commission, 444 North Capitol Street NW., Suite 638, Washington, DC 20001; (202) 508-3840; e-mail: otcair.org; Web site: http://www.sso.org/otc

SUPPLEMENTARY INFORMATION: The Clean Air Act Amendments of 1990 contain at Section 184 provisions for the “Control of Interstate Ozone Air Pollution.” Section 184(a) establishes an “Ozone Transport Region” (OTR) comprised of the states of Connecticut, Delaware, Maine, Maryland, Massachusetts, New Hampshire, New Jersey, New York, Pennsylvania, Rhode Island, Vermont, parts of Virginia and the District of Columbia. The purpose of the Ozone Transport Commission is to deal with ground level ozone formation, transport, and control within the OTR. The MANE-VU is comprised of the states of Connecticut, Delaware, Maine, Maryland, Massachusetts, New Hampshire, New Jersey, New York, Pennsylvania, Rhode Island, Vermont, the District of Columbia, and the Tribes within those states. The purpose of MANE-VU is to address Regional Haze and visibility goals.

The purpose of this notice is to announce that the OTC and MANE-VU will meet on July 21 through July 23, 2003. The meeting will be held at the address noted earlier in this notice.

Section 176A(b)(2) of the Clean Air Act Amendments of 1990 specifies that the meetings of the Ozone Transport Commission and MANE-VU are not subject to the provisions of the Federal Advisory Committee Act. This meeting will be open to the public as space permits.

Type of Meeting: Open.

Agenda: Copies of the final agenda will be available from the OTC office (202) 508-3840 (by e-mail: otcair.org or via our Web site at http://www.sso.org/otc) by Friday, July 11, 2003. The purpose of these meetings is to discuss ways in which OTC and MANE-VU states and Tribes can meet their statutory and regulatory responsibilities under the Clean Air Act. Special emphasis will be given to stationary and mobile source control measures to reduce precursors of ground-level ozone and next steps to reduce ground-level ozone in the context of a multi-pollutant emission reduction program. The OTC and MANE-VU are also expected to address issues related to the transport of pollutants of concern into its region, and to discuss potential regional emission control options and measures.

Dated: June 17, 2003.
Richard J. Kampf,
Acting Regional Administrator, Region III.

[FR Doc. 03-16239 Filed 6-25-03; 8:45 am]

BILLING CODE 6560-50-P